DEPARTMENT OF HOMELAND SECURITY

Federal Emergency Management Agency

[Docket ID FEMA-2022-0002; Internal Agency Docket No. FEMA-B-2251]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive, officer of community | Community map repository | Online location of letter of map revision | Date of modification | Community No.
Colorado:
Arapahoe | City of Aurora (21-08-1133P). | The Honorable Mike Coffman, Mayor, City of Aurora, 15151 East Alameda Parkway, Aurora, CO 80012. | Public Works Department, 15151 East Alameda Parkway, Aurora, CO 80012. | https://msc.fema.gov/portal/advanceSearch. | Sep. 9, 2022 | 080002
Denver | City and County of Denver (22-08-0130P). | The Honorable Michael B. Hancock, Mayor, City and County of Denver, 1437 Bannock Street, Room 350, Denver, CO 80202. | Department of Transportation and Infrastructure, 201 West Colfax Avenue, Department 608, Denver, CO 80202. | https://msc.fema.gov/portal/advanceSearch. | Oct. 14, 2022 | 080046
Connecticut: Fairfield | Town of Greenwich (21-01-1171P). | The Honorable Fred Camillo, First Selectman, Town of Greenwich Board of Selectmen, 101 Field Point Road, 1st Floor, Greenwich, CT 06830. | Town Hall, 101 Field Point Road, Greenwich, CT 06830. | https://msc.fema.gov/portal/advanceSearch. | Sep. 14, 2022 | 090008
Florida:
Collier | City of Marco Island (22-04-2823P). | Mike McNees, Manager, City of Marco Island, 50 Bald Eagle Drive, Marco Island, FL 34145. | Building Services Department, 50 Bald Eagle Drive, Marco Island, FL 34145. | https://msc.fema.gov/portal/advanceSearch. | Oct. 11, 2022 | 120426
Duval | City of Jacksonville Beach (22-04-0750P). | The Honorable Christine Hoffman, Mayor, City of Jacksonville Beach, 11 North 3rd Street, Jacksonville Beach, FL 32250. | Planning and Development Department, 11 North 3rd Street, Jacksonville Beach, FL 32250. | https://msc.fema.gov/portal/advanceSearch. | Sep. 28, 2022 | 120078
Lee | City of Bonita Springs (22-04-0173P). | The Honorable Rick Steinmeyer, Mayor, City of Bonita Springs, 9101 Bonita Beach Road, Bonita Springs, FL 34135. | Community Development Department, 9220 Bonita Beach Road, Bonita Springs, FL 34135. | https://msc.fema.gov/portal/advanceSearch. | Sep. 23, 2022 | 120680
Manatee | Unincorporated areas of Manatee County (21-04-2233P). | The Honorable Kevin Van Ostenbridge, Chairman, Manatee County Board of Commissioners, 1112 Manatee Avenue West, Bradenton, FL 34205. | Manatee County Building and Development Services Department, 1112 Manatee Avenue West, Bradenton, FL 34205. | https://msc.fema.gov/portal/advanceSearch. | Oct. 14, 2022 | 120153
Monroe | Unincorporated areas of Monroe County (22-04-0860P). | The Honorable David Rice, Mayor, Monroe County Board of Commissioners, 1100 Simonton Street, Key West, FL 33040. | Monroe County Building Department, 2798 Overseas Highway, Suite 300, Marathon, FL 33050. | https://msc.fema.gov/portal/advanceSearch. | Sep. 22, 2022 | 125129
Monroe | Unincorporated areas of Monroe County (22-04-2418P). | The Honorable David Rice, Mayor, Monroe County Board of Commissioners, 1100 Simonton Street, Key West, FL 33040. | Monroe County Building Department, 2798 Overseas Highway, Suite 300, Marathon, FL 33050. | https://msc.fema.gov/portal/advanceSearch. | Oct. 3, 2022 | 125129
Osceola | City of St. Cloud (20-04-5566P). | Bill Sturgeon, Manager, City of St. Cloud, 1300 9th Street, St. Cloud, FL 34769. | Building Department, 1300 9th Street, St. Cloud, FL 34769. | https://msc.fema.gov/portal/advanceSearch. | Oct. 3, 2022 | 120191
Pinellas | Unincorporated areas of Pinellas County (22-04-1973P). | The Honorable Charlie Justice, Chairman, Pinellas County Board of Commissioners, 315 Court Street, Clearwater, FL 33756. | Pinellas County Building Services Department, 440 Court Street, Clearwater, FL 33756. | https://msc.fema.gov/portal/advanceSearch. | Sep. 15, 2022 | 125139
Polk | Unincorporated areas of Polk County (22-04-0291X). | Bill Beasley, Manager, Polk County, 330 West Church Street, Bartow, FL 33831. | Polk County Land Development Division, 330 West Church Street, Bartow, FL 33831. | https://msc.fema.gov/portal/advanceSearch. | Oct. 13, 2022 | 120261
Seminole | City of Lake Mary (22-04-0236P). | Kevin Smith, Manager, City of Lake Mary, 100 North Country Club Road, Lake Mary, FL 32795. | Municipal Services Complex, 911 Wallace Court, Lake Mary, FL 32746. | https://msc.fema.gov/portal/advanceSearch. | Oct. 3, 2022 | 120416
Georgia: Douglas | Unincorporated areas of Douglas County (21-04-2703P). | The Honorable Romona Jackson Jones, Chair, Douglas County Commission, 8700 Hospital Drive, 3rd Floor, Douglasville, GA 30134. | Douglas County Courthouse, 8700 Hospital Drive, 3rd Floor, Douglasville, GA 30134. | https://msc.fema.gov/portal/advanceSearch. | Sep. 16, 2022 | 130306
Kentucky: Jefferson | Louisville-Jefferson County, Metro Government (21-04-5654P). | The Honorable Greg Fischer, Mayor, Louisville-Jefferson County, Metro Government, 527 West Jefferson Street, Louisville, KY 40202. | Louisville-Jefferson County Metropolitan Sewer District, 700 West Liberty Street, Louisville, KY 40203. | https://msc.fema.gov/portal/advanceSearch. | Sep. 26, 2022 | 210120
Maryland: Prince George's | Unincorporated areas of Prince George's County (21-03-1450P). | The Honorable Angela D. Alsobrooks, Executive, Prince George's County, 1301 McCormick Drive, Suite 4000, Largo, MD 20774. | Prince George's County Department of Permitting Inspections and Enforcement, 9400 Peppercorn Place, Suite 230, Largo, MD 20774. | https://msc.fema.gov/portal/advanceSearch. | Sep. 23, 2022 | 245208
North Carolina:
Cabarrus | Unincorporated areas of Cabarrus County (21-04-2265P). | The Honorable Steve Morris, Chairman, Cabarrus County Board of Commissioners, P.O. Box 707, Concord, NC 28026. | Cabarrus County Planning Services Department, 65 Church Street Southeast, Concord, NC 28025. | https://msc.fema.gov/port,al/advanceSearch. | Jul. 11, 2022 | 370036
Durham | Unincorporated areas of Durham County (21-04-5308P) | The Honorable Brenda Howerton, Chair, Durham County Board of Commissioners, 200 East Main Street, Durham, NC 27701. | Durham County Planning Department, 101 City Hall Plaza, Durham, NC 27701. | https://msc.fema.gov/port,al/advanceSearch. | Sept. 21, 2022 | 370085
Harnett | Unincorporated areas of Harnett County (21-04-4957P). | The Honorable Lewis Weatherspoon, Chairman, Harnett County Board of Commissioners, 455 McKinney Parkway, Lillington, NC 27546. | Harnett County, Planning Services Department, 102 East Front Street, Lillington, NC 27546. | https://msc.fema.gov/port,al/advanceSearch. | Jul. 20, 2022 | 370328
Oklahoma: Tulsa | City of Bixby (21-06-3360P). | Jared Cottle, City of Bixby Manager, P.O. Box 70, Bixby, OK 74008. | Development Services Department, 113 West Dawes Street, Bixby, OK 74008. | https://msc.fema.gov/portal/advanceSearch. | Sep. 19, 2022 | 400207
South Dakota:
Deuel | Town of Altamont (22-08-0536P). | The Honorable Jennifer Jensen, Mayor, Town of Altamont, 307 Carmen Street, Altamont, SD 57226. | Town Hall, 307 Carmen Street, Altamont, SD 57226. | https://msc.fema.gov/portal/advanceSearch. | Sep. 2, 2022 | 460320
Deuel | Town of Brandt (22-08-0536P). | The Honorable Greg Anderson, Mayor-President, Town of Brandt, P.O. Box 218, Brandt, SD 57218. | Town Hall, 112 Main Street, Brandt, SD 57218. | https://msc.fema.gov/portal/advanceSearch. | Sep. 2, 2022 | 460319
Texas:
Denton | City of Fort Worth (22-06-0847P). | The Honorable Mattie Parker, Mayor, City of Fort Worth, 200 Texas Street, Fort Worth, TX 76102. | Transportation and Public Works Department, Engineering Vault, 200 Texas Street, Fort Worth, TX 76102. | https://msc.fema.gov/portal/advanceSearch. | Oct. 11, 2022 | 480596
Denton | Town of Prosper (21-06-3249P). | The Honorable Ray Smith, Mayor, Town of Prosper, P.O. Box 307, Prosper, TX 75078. | Engineering Services Department, 250 West 1st Street, Prosper, TX 75078. | https://msc.fema.gov/portal/advanceSearch. | Sep. 12, 2022 | 480141
Denton | Unincorporated areas of Denton County (21-06-3249P). | The Honorable Andy Eads, Denton County Judge, 1 Courthouse Drive, Suite 100, Denton, TX 76201. | Denton County Development Services Department, 3900 Morse Street, Denton, TX 76208. | https://msc.fema.gov/portal/advanceSearch. | Sep. 12, 2022 | 480774
Johnson | City of Burleson (21-06-3092P). | The Honorable Chris Fletcher, Mayor, City of Burleson, 141 West Renfro Street, Burleson, TX 76028. | City Hall, 141 West Renfro Street, Burleson, TX 76028. | https://msc.fema.gov/portal/advanceSearch. | Oct. 6, 2022 | 485459
Montgomery | City of Conroe (21-06-2197P). | The Honorable Jody Czajkoski, Mayor, City of Conroe, P.O. Box 3066, Conroe, TX 77305. | City Hall, 300 West Davis Street, Conroe, TX 77305. | https://msc.fema.gov/portal/advanceSearch. | Sep. 9, 2022 | 480484
Tarrant | City of Fort Worth (21-06-2361P). | The Honorable Mattie Parker, Mayor, City of Fort Worth, 200 Texas Street, Fort Worth, TX 76102. | Transportation and Public Works Department, Engineering Vault, 200 Texas Street, Fort Worth, TX 76102. | https://msc.fema.gov/portal/advanceSearch. | Sep. 29, 2022 | 480596
Tarrant | Unincorporated areas of Tarrant County (21-06-2361P). | The Honorable B. Glen Whitley, Tarrant County Judge, 100 East Weatherford Street, Room 502A, Fort Worth, TX 76196. | Tarrant County Administration Building, 100 East Weatherford Street, Fort Worth, TX 76196. | https://msc.fema.gov/portal/advanceSearch. | Sep. 29, 2022 | 480582
Williamson | City of Leander (21-06-2660P). | Richard B. Beverlin, III, Manager, City of Leander, 105 North Brushy Street, Leander, TX 78641. | Engineering Department, 201 North Brushy Street, Leander, TX 78641. | https://msc.fema.gov/portal/advanceSearch. | Oct. 14, 2022 | 481536
Utah: Washington | City of St. George (22-08-0191P). | The Honorable Michele Randall, Mayor, City of St. George, 175 East 200 North, St. George, UT 84770. | City Hall, 175 East 200 North, St. George, UT 84770. | https://msc.fema.gov/portal/advanceSearch. | Sep. 12, 2022 | 490177

[FR Doc. 2022-14766 Filed 7-11-22; 8:45 am]

BILLING CODE 9110-12-P